DEPARTMENT OF JUSTICE

Notice of Lodging of Proposed Consent Decree Under the Clean Air Act

On October 24, 2024, the Department of Justice lodged a proposed Consent Decree with the United States District Court for the Western District of Pennsylvania in the lawsuit entitled United States and Commonwealth of Pennsylvania v. XTO Energy Inc., Civil Action No. 2:24-cv-01467-RJC.

The lawsuit seeks injunctive relief and civil penalties for violations of the Clean Air Act and the Standards of Performance for Crude Oil and Natural Gas Facilities at well pads owned and operated by XTO Energy Inc. (“XTO”) in Butler County, Pennsylvania. The violations relate to alleged failures to adequately design, operate, and maintain storage tank vapor control systems, resulting in emissions of volatile organic compounds (“VOC”) and other pollutants to the atmosphere.

The proposed consent decree covers 30 XTO well pads in Butler County, Pennsylvania. The proposed decree requires XTO to perform injunctive relief, including conducting engineering evaluations of the vapor control systems at each of the controlled well pads to ensure that they are adequately sized and designed. XTO must also complete one environmental mitigation project, at a cost of at least $1,400,000, and pay a $4,000,000 civil penalty. Entering into and fully complying with the proposed consent decree would release XTO from past civil liability for violations of Title V and the New Source Performance Standards applicable to new and modified storage vessels and related state law at the 30 well pads subject to the proposed consent decree.

The publication of this notice opens a period for public comment on the proposed Consent Decree. Comments should be addressed to the Assistant Attorney General, Environment and Natural Resources Division, and should refer to United States and Commonwealth of Pennsylvania v. XTO Energy Inc., D.J. Ref. No. 90-5-2-1-12373. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. If you require assistance accessing the proposed Consent Decree, you may request assistance by email or by mail to the addresses provided above for submitting comments.

Jason A. Dunn,
Assistant Section Chief, Environmental Enforcement Section, Environment and Natural Resources Division.

[FR Doc. 2024-25225 Filed 10-29-24; 8:45 am]

BILLING CODE 4410-15-P